DEPARTMENT OF COMMERCE

National Oceanic and Atmospheric Administration

Agency Information Collection Activities; Submission to the Office of Management and Budget (OMB) for Review and Approval; Comment Request; Understanding the Human Response to Water Hazards: A Social Network Analysis

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 24, 2023, during a 60-day comment period. This notice allows for an additional 30 days for public comments.

Agency: National Oceanic & Atmospheric Administration (NOAA), Commerce.

Title: Understanding the Human Response to Water Hazards: A Social Network Analysis.

OMB Control Number: 0648-XXXX.

Form Number(s): None.

Type of Request: Regular submission (New information collection).

Number of Respondents: 790.

Average Hours per Response: Semi-structured interviews: 1 hour; Survey: 15 minutes.

Total Annual Burden Hours: 227.50 Hours.

Needs and Uses: This is a request for a new collection of information. The Social, Behavioral, and Economic Sciences Program (SBES) in the Office of Science and Technology Integration for the National Weather Service (NWS) is sponsoring this data collection effort.

Under the Bipartisan Infrastructure Law, the NWS SBES Program was provided funding to better understand the human responses to water hazard services and products. This project seeks to understand and mitigate flooding outcomes for riverine communities, especially those that rank high on the Centers for Disease Control's (CDC's) Social Vulnerability Index (SVI), by conducting a Social Network Analysis (SNA) to study how stakeholders within two selected communities: Roanoke, Virginia; and Greenbrier County, West Virginia. Based on interviews with local government leaders and faith/community-based organizations (FCBOs) along with a survey of residents, the resulting SNA will map how messages are created and distributed, how they are accessed and understood, and how the information affects the decisions of emergency and water resource managers, first responders, community partners, and the general public as they prepare for, respond to, and recover from flooding events. While the NWS possesses some anecdotal knowledge of the dissemination and use of flood forecasts, a more complete accounting and formal analysis of the individuals and groups within these networks are needed. Ideally, the findings from the SNA in relation to the water hazard products and services will not only improve the NWS's understanding of who the stakeholders are, but also how they use the information provided and what they believe are the benefits for their constituents.

The primary driver for this project comes from the direction of NOAA leadership to develop a social behavioral infrastructure with data that supports the NWS in providing equitable service delivery for all of its products and services. Based on H.R.3684 Infrastructure Investment and Jobs Act (IIJA), Provision 3: funding shall be used for coastal and inland flood and inundation mapping and forecasting, next-generation water modeling activities such as modernized precipitation frequency and probable maximum studies, and transformative foundational social science research that build infrastructure and supports equitable service delivery to all communities. This project also aligns with Goal 3 of the NWS Strategic Plan to transform our Agency to meet current and future needs of society by (3.6) delivering actionable inland and coastal water resource and inundation information across all time scales to address the growing risk of flooding, drought, and low water flow as well as immediate and long range water management and planning; and by (3.8) understanding and applying the best social, behavioral, and economic sciences to clearly communicate information with communities in multiple languages and deliver equitable service for those historically underserved and socially vulnerable to attain the desired response to high impact events.

Semi-structured interviews will be utilized to collect information from state and local government leaders, as well as FCBO leaders. A survey will be provided to residents of both communities, along with an in-person intercept survey provided to residents of Greenbrier County based on interviews with the FCBO leaders.

The SNA maps derived from the data collected will be utilized by the following NWS offices:

• Community Engagement Program to support outreach and engagement activities with specific groups and the organizations that serve these populations.

• The Decision Support Integration Branch of the Analyze, Forecast, and Support Office to help them identify and recruit organizations, businesses, and individuals who may be well poised to become Weather-Ready Ambassadors.

The raw data collected will be used by:

• The Social, Behavioral, and Economic Sciences (SBES) Program in the Office of Science and Technology Integration in developing an Agent Based Model (ABM) that can demonstrate, describe, and potentially anticipate evacuation and mobility behaviors within a prescribed system for inland flooding events. If possible, the application of an ABM will support the development of mitigation efforts that stakeholders can test to understand how the actions of specific agents within a system could possibly alter outcomes of flooding events for a community.

Affected Public: Local government, Not-for profit, and individuals or households.

Frequency: Once.

Respondent's Obligation: Voluntary.

Legal Authority: H.R.3684 Infrastructure Investment and Jobs Act (IIJA), Provision 3: funding shall be used for coastal and inland flood and inundation mapping and forecasting, next-generation water modeling activities such as modernized precipitation frequency and probable maximum studies, and transformative foundational social science research that build infrastructure and supports equitable service delivery to all communities.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-05602 Filed 3-14-24; 8:45 am]

BILLING CODE 3510-KE-P